DEPARTMENT OF THE INTERIOR

National Park Service

[NPS-WASO-NAGPRA-NPS0037013; PPWOCRADN0-PCU00RP14.R50000]

Notice of Inventory Completion: Los Angeles County Natural History Museum, Los Angeles, CA

AGENCY: National Park Service, Interior.

ACTION: Notice.

SUMMARY: In accordance with the Native American Graves Protection and Repatriation Act (NAGPRA), the Los Angeles County Natural History Museum (LACNHM) has completed an inventory of human remains and has determined that there is a cultural affiliation between the human remains and Indian Tribes in this notice. The human remains were removed from Orange and Los Angeles Counties, CA.

DATES: Repatriation of the human remains in this notice may occur on or after January 4, 2024.

ADDRESSES: Amy E. Gusick, NAGPRA Officer, Los Angeles County Museum of Natural History, 900 Exposition Boulevard, Los Angeles, CA 90007, telephone (213) 763-3370, email agusick@nhm.org.

SUPPLEMENTARY INFORMATION: This notice is published as part of the National Park Service's administrative responsibilities under NAGPRA. The determinations in this notice are the sole responsibility of the LACNHM. The National Park Service is not responsible for the determinations in this notice. Additional information on the determinations in this notice, including the results of consultation, can be found in the inventory or related records held by the LACNHM.

Description

At an unknown date, human remains representing, at a minimum, one individual were removed from Laguna Beach in Orange County, CA, and at an unknown date, they were transferred to the Laboratory of Anthropology of the Hancock Foundation, a now disbanded museum once part of the University of Southern California (U.S.C.). In 1966, these human remains were donated to LACNHM. The human remains (L.2397.66-1) consist of a mandible belonging to an adult of indeterminate sex. No associated funerary objects are present.

Human remains representing, at a minimum, two individuals were removed from Long Beach in Los Angeles County, CA. In 1953, U.S.C. and California State University, Long Beach conducted a salvage excavation at LAN-270, a site located in the Los Altos neighborhood of Long Beach, under the direction of Dr. William J. Wallace. The human remains excavated by Wallace at Los Altos were transferred to the Laboratory of Anthropology of the Hancock Foundation, and in 1966, they were donated to LACNHM. These human remains consist of eight human vertebrae and two human carpals (L.2397.66-4) belonging of one individual and an almost complete skeleton (L.2397.66-12) belonging to an adult female. No associated funerary objects are present.

Cultural Affiliation

The human remains in this notice are connected to one or more identifiable earlier groups, tribes, peoples, or cultures. There is a relationship of shared group identity between the identifiable earlier groups, tribes, peoples, or cultures and one or more Indian Tribes. The following types of information were used to reasonably trace the relationship: anthropological, archeological, biological, historical, and oral traditional.

The Acjachemen Nation, Gabrieleno Tribes and Tongva Tribes (“People of the Earth”) have strong cultural ties to Laguna Beach and Long Beach coastlines. The site of Puvungna, located on the California State University, Long Beach campus, is sacred to the Gabrieleno, Tongva, and Acjachemen for its association with their Creation account and Tribal history, and annual pilgrimages there by Gabrieleno, Tongva, and Acjachemen continue today. The Luiseño people, which include the Pechanga Band of Indians, share cultural practices and beliefs with the Gabrieleno, Tongva, and Acjachemen, and are linguistically related.

Determinations

Pursuant to NAGPRA and its implementing regulations, and after consultation with the appropriate Indian Tribes, the LACNHM determined that:

• The human remains described in this notice represent the physical remains of three individuals of Native American ancestry.

• There is a relationship of shared group identity that can be reasonably traced between the human remains described in this notice and the Pechanga Band of Indians (Previously listed as Pechanga Band of Luiseno Mission Indians of the Pechanga Reservation, California).

Requests for Repatriation

Written requests for repatriation of the human remains in this notice must be sent to the Responsible Official identified in ADDRESSES. Requests for repatriation may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after January 4, 2024. If competing requests for repatriation are received, the LACNHM must determine the most appropriate requestor prior to repatriation. Requests for joint repatriation of the human remains are considered a single request and not competing requests. The LACNHM is responsible for sending a copy of this notice to the Indian Tribe identified in this notice.

Authority: Native American Graves Protection and Repatriation Act, 25 U.S.C. 3003, and the implementing regulations, 43 CFR 10.9, 10.10, and 10.14.

Dated: November 28, 2023.
Melanie O'Brien,
Manager, National NAGPRA Program.

[FR Doc. 2023-26618 Filed 12-4-23; 8:45 am]

BILLING CODE 4312-52-P